FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011677-005.

Title: United States Australasia Agreement.

Parties:

Australia New Zealand Direct Line

Contship Containerlines

Hamburg-Sud, d/b/a Columbus Line

P&O Nedlloyd Limited

Wallenius Wilhelmsen Lines AS

CMA CGM, S.A.

Synopsis: The proposed agreement modification extends the current share period for the parties' Trade Participation Arrangement through December 31, 2002, and revises the overcarriage and undercarriage thresholds.

Agreement No.: 011785-001.

Title: The COSCON/KL/YMUK Asia/U.S. East and Gulf Coast/Mediterranean Vessel Sharing Agreement.

Parties:

COSCO Container Lines Company, Limited

Kawasaki Kisen Kaisha, Ltd.

Yangming (U.K.) Ltd.

Synopsis: The proposed agreement modification adds ports in North Europe in the Hamburg/Gibraltar range, the United Kingdom, and Scandinavia to the geographic scope of the agreement.

Dated: April 19, 2002.
By Order of the Federal Maritime Commission.
Bryant L. VanBrakle,
Secretary.

[FR Doc. 02-10063 Filed 4-23-02; 8:45 am]

BILLING CODE 6730-01-P